DEPARTMENT OF ENERGY

Federal Energy Regulatory Commission

[,, QF14-659-001, et al]

Notice of Petition for Declaratory Order

| Docket Nos.
Minwind I, LLC, Minwind II, LLC, Minwind III, LLC, Minwind IV, LLC, Minwind V, LLC, Minwind VI, LLC, Minwind VII, LLC, Minwind VIII, LLC, Minwind IX, LLC | EL15-5-000
Minwind I, LLC | QF14-658-001
Minwind II, LLC | QF14-659-001
Minwind III, LLC | QF14-660-001
Minwind IV, LLC | QF14-661-001
Minwind V, LLC | QF14-662-001
Minwind VI, LLC | QF14-663-001
Minwind VII, LLC | QF14-664-001
Minwind VIII, LLC | QF14-665-001
Minwind IX, LLC | QF14-666-001

Take notice that on October 8, 2014, pursuant to Rule 207(a)(2) of the Federal Energy Regulatory Commission's (Commission) Rules of Practice and Procedure, 18 CFR 385.207(a)(2) and section 292.203(d)(2) of the Commission's Regulations, 18 CFR 292.203(d)(2) Minwind I, LLC, Minwind II, LLC, Minwind III, LLC, Minwind IV, LLC, Minwind V, LLC, Minwind VI, LLC, Minwind VII, LLC, Minwind VIII, LLC, and Minwind IX, LLC (collectively, Petitioners) filed a petition for declaratory order requesting that the Commission provide for a limited waiver from the QF filing requirement of section 292.203(a)(3) of the Commission's Regulations for the period from April 15, 2006 to July 14, 2014, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 20, 2014.

Dated: October 9, 2014.
Nathaniel J. Davis, Sr.,
Deputy Secretary.

[FR Doc. 2014-24581 Filed 10-15-14; 8:45 am]

BILLING CODE 6717-01-P